DEPARTMENT OF THE INTERIOR

National Park Service

[NPS-WASO-NAGPRA-NPS0023938;PPWOCRADN0-PCU00RP14.R50000]

Notice of Intent to Repatriate Cultural Items: U.S. Army Corps of Engineers, Omaha District, Omaha, NE

AGENCY: National Park Service, Interior.

ACTION: Notice.

SUMMARY: The U.S. Army Corps of Engineers, Omaha District (Omaha District), in consultation with the appropriate Indian Tribes or Native Hawaiian organizations, has determined that the cultural items listed in this notice meet the definition of unassociated funerary objects. Lineal descendants or representatives of any Indian Tribe or Native Hawaiian organization not identified in this notice that wish to claim these cultural items should submit a written request to the Omaha District. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Omaha District, at the address in this notice by October 23, 2017.

ADDRESSES: Ms. Sandra Barnum, U.S. Army Engineer District, Omaha, ATTN: CENWO-PM-AB, 1616 Capital Avenue, Omaha, NE 68102, telephone (402) 995-2674, email sandra.v.barnum@usace.army.mil.

SUPPLEMENTARY INFORMATION: Notice is hereby given in accordance with the Native American Graves Protection and Repatriation Act (NAGPRA), 25 U.S.C. 3005, of the intent to repatriate cultural items under the control of the Omaha District, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Cultural items consisting of 55,802 unassociated funerary objects that were collected from site 39BF231 in Buffalo County, SD. They are presently located at the South Dakota State Archaeological Research Center (SARC) and are under the control of the Omaha District.

Site 39BF231 is a multi-component mound site on a gravel terrace situated above the confluence of the Missouri River and Campbell Creek. The site was recorded in 1956 by H.A. Huscher during the Smithsonian Institute River Basin Survey Project, and was excavated in 1961 by Robert W. Neuman for the Smithsonian Institution, before the construction of a new Highway 47. During the excavation, three dome-shaped mounds and 14 test pits were excavated and at least 13 sets of human remains were recovered. The human remains were stored at the River Basin Surveys Midwest Archeological Center (MWAC) until 1964, when they were moved to the University of Kansas. In 1971, the University of Tennessee-Knoxville received the human remains from the University of Kansas, where they remained until 1979, when they were transferred to the Smithsonian Institution, where they are currently held.

SARC currently houses the 55,802 funerary objects that were collected with one of the above individuals held at the Smithsonian. The excavation records clearly show these items as having been removed from the burial of a specific individual. These 55,802 unassociated funerary objects are 1 copper band, 2 brass beads, 55,462 glass beads, 41 shell beads, 1 glass bottle, 1 iron box, 6 copper alloy brooches, 1 iron buckle, 110 brass buttons, 6 glass buttons, 2 catlinite spheres, 6 brass chain fragments, 1 log fragment, 13 wood fragments, 1 bone paint brush, 3 elk teeth, 1 glass fragment, 14 iron fragments, 1 iron pail, 1 iron rod, 2 knife blade fragments, 1 lead ball, 2 lead pellets, 1 unidentified lead object, 1 projectile point, 1 lot of brooches, 1 lot of wool, 1 lot of hair, textile and beads, 4 oxidized metal fragments, 40 iron nails, 6 ornamental disc fragments, 1 pocket knife, 4 brass/glass rings, 16 brass rings, 3 copper alloy rings, 1 iron scissors, 2 iron scraper blades, 3 iron screws, 1 spoon, 10 brass tacks, 1 cotton fragment, 6 leather fragments, 1 leather shoe fragment, 1 ribbon fragment, 1 wool fragment, 3 wool/linen fragments, 1 brass thimble, 10 iron tinklers, 1 wooden bowl fragment, and 2 iron wristlets.

Site 39BF231 is a multi-component mound site that was probably occupied between 1863 and 1885, i.e., during the Early Reservation Period (post-A.D. 1863). This site is associated with the Crow Creek Indian Reservation, which, by the 1870's was inhabited by the Yanktonai. Site 39BF231 has four dome-shaped earthen mounds, three of which were excavated. These mounds are part of a larger concentration of 90 mounds that occur in the Big Bend area on the Missouri River. Pink beads found at the site indicate a post-1850 occupation. Further, crooked shoes evidence continued occupation during the 1860s, while wire nails suggest that occupation continued at least through 1884. Researchers believe the individuals who were buried at the site are from a later occupation, as the individuals were placed in rows in the mounds. This practice suggests a transition to non-Native burial practices, which occurred in the area in the1880s. The unassociated funerary objects and manner of burial indicates that the mounds are affiliated with the Yanktonai. The Yanktonai today are represented by the Yankton Sioux Tribe of South Dakota. Consultation with the Yankton Sioux Tribe of South Dakota indicate that these kinds of objects were placed with individuals at the time of death.

Determinations Made by the U.S. Army Corps of Engineers, Omaha District

Officials of the U.S. Army Corps of Engineers, Omaha District have determined that:

• Pursuant to 25 U.S.C. 3001(3)(B), the 55,802 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Yankton Sioux Tribe of South Dakota.

Additional Requestors and Disposition

Lineal descendants or representatives of any Indian Tribe or Native Hawaiian organization not identified in this notice that wish to claim these cultural items should submit a written request with information in support of the claim to Ms. Sandra Barnum, U.S. Army Engineer District, Omaha, ATTN: CENWO-PM-AB, 1616 Capital Avenue, Omaha, NE 68102, telephone, (402) 995-2674, email sandra.v.barnum@usace.army.mil, by October 23, 2017. After that date, if no additional claimants have come forward, transfer of control of the unassociated funerary objects to the Yankton Sioux Tribe of South Dakota may proceed.

The U.S. Army Corps of Engineers, Omaha District is responsible for notifying the Yankton Sioux Tribe of South Dakota that this notice has been published.

Dated: August 29, 2017.
Sarah Glass,
Acting Manager, National NAGPRA Program.

[FR Doc. 2017-20304 Filed 9-21-17; 8:45 am]

BILLING CODE 4312-52-P